LEGAL SERVICES CORPORATION

Notice and Request For Comments: LSC Elimination of the West Virginia Migrant Service Area Beginning January 1, 2012

AGENCY: Legal Services Corporation.

ACTION: Notice and Request for Comments.

SUMMARY: The Legal Services Corporation will eliminate the West Virginia migrant service area, i.e., MWV effective January 1, 2012, because any eligible migrant population in West Virginia can be more effectively and efficiently served through the basic field-general grant.

DATES: Written comments must be received on or before October 13, 2011.

ADDRESSES: Written comments may be submitted by mail or e-mail to Reginald J. Haley, Office of Program Performance, Legal Services Corporation, 3333 K Street, NW., Washington, DC 20007; or haleyr@lsc.gov.

FOR FURTHER INFORMATION CONTACT: Reginald J. Haley, Office of Program Performance, Legal Services Corporation, 3333 K Street, NW., Washington, DC 20007; or by e-mail at haleyr@lsc.gov.

SUPPLEMENTARY INFORMATION: The Legal Services Corporation's (LSC) mission is to promote equal access to justice and to provide for high-quality civil legal assistance to low-income persons. Pursuant to its statutory authority, LSC designates service areas in U.S. states, territories, possessions, and the District of Columbia for which it provides grants to legal aid programs to provide free civil legal services, primarily through “basic field-general” grants based on poverty population.

In some regions, LSC designates migrant service areas for grants that are designed to specifically serve the legal needs of eligible migrant farmworker populations. The funding for a migrant service area is taken out of the funding for the basic field-general service area also covering those populations based on the estimated number of eligible migrant farmworkers.

For many years LSC has designated a migrant service area in West Virginia. LSC has been informed that the eligible migrant population in West Virginia is not sufficient in numbers to maintain a separate migrant service area in the state. LSC has reviewed this matter and determined that, based on the available information; it would be more effective and efficient to serve the legal needs of the eligible migrant population in West Virginia through the basic field-general grant rather than providing a separate migrant grant.

LSC provides grants through a competitive bidding process, which is regulated by 45 CFR part 1634. In 2010, LSC implemented a competitive grants process for 2011 calendar year funding that included, inter alia, the West Virginia migrant service area. LSC determines the term of grants after applications have been received. For 2011, LSC awarded a one-year migrant grant for Legal Aid of West Virginia that is effective January 1, 2011, through December 31, 2011. Accordingly, LSC announced the availability of 2012 funding for the West Virginia migrant service area in the Federal Register on March 30, 2011 (76 FR 17711). One competitive grant application was received, and it was from the current grantee for the migrant service area, which is Legal Aid of West Virginia. As noted above, the eligible migrant population in West Virginia is not sufficient in numbers to maintain a separate migrant service area in the state. As a result, LSC intends to eliminate the West Virginia migrant service area beginning January 1, 2012. Funding for the eligible migrant population of West Virginia will be restored to the state's basic field-general grant. LSC expects that Legal Aid of West Virginia will continue to provide services to the eligible migrant populations as part of their basic field general grant, which is effective January 1, 2011 through December 31, 2013.

LSC invites public comment on this decision. Interested parties may submit comments to LSC within a period of thirty (30) days from the date of publication of this notice. More information about LSC can be found at LSC's Web site: http://www.lsc.gov.

Dated: September 6, 2011.
Victor M. Fortuno,
Vice President and General Counsel, Legal Services Corporation.

[FR Doc. 2011-23186 Filed 9-12-11; 8:45 am]

BILLING CODE 7050-01-P